DEPARTMENT OF AGRICULTURE

Submission for OMB Review; Comment Request

May 18, 2005.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Feasibility of Computer Matching in the National School Lunch Program.

OMB Control Number: 0584-NEW.

Summary of Collection: Section 105(a) of the Child Nutrition and WIC Reauthorization Act of 2004, requires USDA to conduct a study on the feasibility of using computer technology to reduce errors, waste, fraud, and abuse in the National School Lunch Program (NSLP). The data collected will provide information on how States are currently using or planning to use computer matching for certification and verification of children in food stamp and Temporary Assistance for Needy Families (TANF) households to receive free meals under the NSLP and the School Breakfast Program (SBP). The data collected will also help the Food and Nutrition Service (FNS) assess the feasibility of expanding the use of computer matching in the NSLP to certify and verify the income-eligibility of other children for free or reduced-price meals, including children enrolled in Medicaid and other means-tested medical assistance programs. Computer matching can reduce burden on households and School Food Authorities (SFAs'), reduce error and fraud, and increase certification among eligible children.

Need and Use of the Information: FNS will collect information using surveys and in-depth telephone interviews with State Child Nutrition agencies, Medicaid agencies, and State and local administrators in six States. FNS will collect the following in order to assess the feasibility of computer matching for NSLP certification and verification: (1) Information about current computer matching activities by State CN agencies and about barriers to computer matching by those agencies; (2) information about the prevalence of statewide student information systems and the feasibility of using those systems for NSLP computer matching; and (3) information about the prevalence of statewide information systems containing eligibility information for Medicaid programs and SCHIP, and the appropriateness of those systems for NSLP computer matching.

Description of Respondents: State, local, or tribal government.

Number of Respondents: 225.

Frequency of Responses: Reporting: Other (one-time).

Total Burden Hours: 144.

Ruth Brown,
Departmental Information Collection Clearance Officer.

[FR Doc. 05-10206 Filed 5-20-05; 8:45 am]

BILLING CODE 3410-30-P